DEPARTMENT OF HOMELAND SECURITY

Coast Guard

[USCG-2005-22703]

Merchant Marine Personnel Advisory Committee

AGENCY: Coast Guard, DHS.

ACTION: Notice of meeting.

SUMMARY: A working group of the Merchant Marine Personnel Advisory Committee (MERPAC) will meet to discuss Task Statement #53, “Medical Certification Standards and Disqualifying Medical Conditions for Merchant Mariners.” MERPAC advises the Secretary of Homeland Security on matters relating to the training, qualifications, licensing, certification, and fitness of seamen serving in the U.S. merchant marine. This meeting will be open to the public.

DATES: The MERPAC working group will meet on Wednesday, November 16, 2005 from 8:30 a.m. to 4:30 p.m. (local), and Thursday, November 17, 2005, from 8:30 a.m. to 4:30 p.m. (local). These meetings may adjourn early if all business is finished. Requests to make oral presentations should reach the Coast Guard on or before November 2, 2005. Written material and requests to have a copy of your material distributed to each member of the working group should reach the Coast Guard on or before November 2, 2005.

ADDRESSES: The working group of MERPAC will meet at the National Maritime Center, 4200 Wilson Blvd., Arlington, VA 22203. The meeting on November 16th will take place in Room 900 and the meeting on November 17th will take place in Rooms 630 and 790. Further information on the location of the National Maritime Center may be obtained from Ms. Dee Holland at (202) 493-1002. Send written material and requests to make oral presentations to Mr. Mark Gould, Commandant (G-MSO-1), U.S. Coast Guard Headquarters, 2100 Second Street SW., Washington, DC 20593-0001. This notice and related documents are available on the Internet at http://dms.dot.gov under Docket Number USCG-2005-22703.

FOR FURTHER INFORMATION CONTACT: For questions on this notice, contact Mr. Mark C. Gould, Assistant to the Executive Director, telephone 202-267-6890, fax 202-267-4570, or e-mail mgould@comdt.uscg.mil.

SUPPLEMENTARY INFORMATION: Notice of this meeting is given under the Federal Advisory Committee Act, 5 U.S.C. App. 2. (Pub. L. 92-463, 86 Stat. 770, as amended).

Persons interested in this meeting who are unable to attend may be able to participate by teleconference. For information on teleconferencing, contact Mr. Gould at the numbers or e-mail listed in FOR FURTHER INFORMATION CONTACT after November 6, 2005.

Agenda of November 16-17, 2005 Meetings: The working group will meet to discuss Task Statement #53, “Medical Certification Standards and Disqualifying Medical Conditions for Merchant Mariners.” The Coast Guard intends to issue a new Navigation and Vessel Inspection Circular (NVIC) to clarify procedures and reduce the confusion among its Regional Examination Centers and applicants regarding the physical competence of mariners. The working group will review the draft NVIC and prepare comments for the full MERPAC committee to consider at its next meeting.

Procedural

This meeting is open to the public. Please note that the meeting may adjourn early if all business is finished. At the Chair's discretion, members of the public may make oral presentations during the meeting. If you would like to make an oral presentation at the meeting, please notify Mr. Gould no later than November 2, 2005. Written material for distribution at the meeting should reach the Coast Guard no later than November 2, 2005. If you would like a copy of your material distributed to each member of the committee or working group in advance of the meeting, please submit 25 copies to Mr. Gould no later than November 2, 2005.

Information on Services for Individuals With Disabilities

For information on facilities or services for individuals with disabilities or to request special assistance at the meeting, contact Mr. Gould at the numbers listed in FOR FURTHER INFORMATION CONTACT as soon as possible.

Dated: October 24, 2005.
Lorne W. Thomas.
Captain, U.S. Coast Guard, Acting Director of Standards, Marine Safety, Security and Environmental Protection.

[FR Doc. 05-21575 Filed 10-28-05; 8:45 am]

BILLING CODE 4910-15-P